DEPARTMENT OF COMMERCE

National Oceanic and Atmospheric Administration

RIN 0648-XE204

Endangered Species; File No. 19621

AGENCY: National Marine Fisheries Service (NMFS), National Oceanic and Atmospheric Administration (NOAA), Commerce.

ACTION: Notice; receipt of application.

SUMMARY: Notice is hereby given that Mike Arendt, South Carolina Department of Natural Resources, Marine Resources Division, 217 Fort Johnson Road, Charleston, SC 29412, has applied in due form for a permit to take loggerhead (Caretta caretta), Kemp's ridley (Lepidochelys kempii), green (Chelonia mydas), and leatherback (Dermochelys coraicea) sea turtles for purposes of scientific research.

DATES: Written, telefaxed, or email comments must be received on or before November 4, 2015.

ADDRESSES: The application and related documents are available for review by selecting “Records Open for Public Comment” from the “Features” box on the Applications and Permits for Protected Species (APPS) home page, https://apps.nmfs.noaa.gov, and then selecting File No. 19621 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to assess the distribution, relative abundance, demographic structure, and health of foraging sea turtles in the waters of Florida, Georgia and South Carolina. Researchers would capture by trawl or tangle net; annual requested take numbers per species vary by year and project. Turtles would have the following procedures performed before release: Measure, flipper tag; passive integrated transponder tag; photograph/video; tumor, scute, blood, fecal, and tissue sampling; cloacal swab; ultrasound; weigh; carapace marking; and epibiota removal. A subset of animals would receive an epoxy-attached transmitter before release. A subset of 20 Kemp's ridleys annually would be temporarily transported to a facility for laparoscopy to validate testosterone radioimmunoassay thresholds for assigning sex. The applicant also requests a limited number of mortalities due to capture over the life of the permit: 5 loggerheads, 2 Kemp's ridley, 2 greens, and 2 leatherbacks.

Dated: September 29, 2015.
Julia Harrison,
Chief, Permits and Conservation Division, Office of Protected Resources, National Marine Fisheries Service.

[FR Doc. 2015-25215 Filed 10-2-15; 8:45 am]

BILLING CODE 3510-22-P